DEPARTMENT OF TRANSPORTATION

Federal Aviation Administration

[Summary Notice No. PE-2004-89]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.
Issued in Washington, DC, on December 10, 2004.
Anthony F. Fazio,
Director, Office of Rulemaking.

Dispositions of Petitions

Docket No.: FAA-2001-8634.

Petitioner: Comair, Inc., d.b.a. Delta Connection.

Section of 14 CFR Affected: 14 CFR 93.127.

Description of Relief Sought/Disposition: To permit Comair, Inc., d.b.a. Delta Connection, to conduct domestic operations using its eight international slots at LaGuardia Airport.

Grant, 10/28/2004, Exemption No. 7434B.

Docket No.: FAA-2004-19341.

Petitioner: Bell Agusta Aerospace Company.

Section of 14 CFR Affected: 14 CFR 61.77(a).

Description of Relief Sought/Disposition: To permit Bell Agusta Aerospace Company to obtain special purpose pilot authorizations for its pilots to ferry and operate U.S.-registered AB 139 helicopters to various U.S. locations for the purpose of flight training.

Grant, 10/28/2004, Exemption No. 8431.

Docket No.: FAA-2002-11883.

Petitioner: Department of the Army.

Section of 14 CFR Affected: 14 CFR 91.169(a)(2) and (c).

Description of Relief Sought/Disposition: To permit the Department of the Army to file instrument flight rules flight plans in accordance with the regulations prescribed by the United States Army.

Grant, 10/28/2004, Exemption No. 8430.

Docket No.: FAA-2000-7980.

Petitioner: Air Transport Association of America.

Section of 14 CFR Affected: 14 CFR 121.311(b).

Description of Relief Sought/Disposition: To permit Air Transport Association of America-member airlines and other similarly situated part 121 operators to permit qualified flight attendants not required by § 121.391(c) to perform duties related to the safety of the airplane and its occupants during aircraft movement on the surface.

Grant, 10/26/2004, Exemption No. 5533F.

Docket No.: FAA-2002-13588.

Petitioner: United States Hang Gliding Association, Inc.

Section of 14 CFR Affected: 14 CFR 103.1(a) and (b).

Description of Relief Sought/Disposition: To permit the United States Hang Gliding Association, Inc., to operate unpowered ultralight vehicles (hang gliders) weighing less than 155 pounds, with another occupant, for the purpose of sport, training, or recreation.

Grant, 10/25/2004, Exemption No. 4721I.

Docket No.: FAA-2001-8841.

Petitioner: Hammerhead Aerobatics, Inc.

Section of 14 CFR Affected: 14 CFR 91.315.

Description of Relief Sought/Disposition: To permit Hammerhead Aerobatics, Inc., to operate its Sukhoi Su-29 aircraft, which holds an experimental airworthiness certificate, for the purpose of dual instruction and demonstration flights for compensation, until the Su-29 can be certificated under 14 CFR part 23.

Denial, 10/21/2004, Exemption No. 8427.

Docket No.: FAA-2004-19374.

Petitioner: The Boeing Company.

Section of 14 CFR Affected: 14 CFR 91.529(b).

Description of Relief Sought/Disposition: To permit flight engineers, employed by The Boeing Company, to serve as flight engineers on B-707 and B-747 aircraft if they have logged a minimum of 20 hours in lieu of the required 50 hours flight time as flight engineers on the particular type aircraft within the preceding 12 calendar months, provided the combined flight time in any Boeing model 707 or 747 aircraft, or Level B, C, or D simulator that represents any Boeing model 707 or 747 aircraft, is at least 100 hours in the preceding 12 calendar months.

Grant, 10/21/2004, Exemption No. 2718A.

Docket No.: FAA-2001-9032.

Petitioner: Ameriflight, Inc.

Section of 14 CFR Affected: 14 CFR 61.3(a) and (c), 91.203(a) and (b), 121.153(a)(1), and 121.383(a)(2).

Description of Relief Sought/Disposition: To permit Ameriflight, Inc., to temporarily operate its aircraft in accordance with parts 121 and 135 of 14 CFR without airworthiness and registration certificates onboard (and properly displayed in the case of airworthiness certificates) while obtaining replacements, subject to certain conditions and limitations.

Grant, 10/28/2004, Exemption No. 7143C.

Docket No.: FAA-2004-18703.

Petitioner: ABX Air, Inc.

Section of 14 CFR Affected: 14 CFR 121.613, 121.623, and 121.625.

Description of Relief Sought/Disposition: To permit ABX Air, Inc., to dispatch aircraft under instrument flight rules when conditional language in a one-time increment of weather forecast states that the weather at the destination airport, alternate airport, or both airports could be below the authorized weather minimums when other time increments of the weather forecast state that the weather conditions will be at or above the authorized weather minimums, subject to certain conditions and limitations.

Grant, 10/28/2004, Exemption No. 8432.

Docket No.: FAA-2004-19324.

Petitioner: Pomona Valley Pilots Association.

Section of 14 CFR Affected: 14 CFR 135.251, 135.255, 135.353, and appendices I and J to part 121.

Description of Relief Sought/Disposition: To permit Pomona Valley Pilots Association to conduct local sightseeing flights for the Pomona Valley Air Fair at the Cable Airport, Upland, California, on or about January 8 and 9, 2005, for compensation and hire, without complying with certain anti-drug and alcohol misuse prevention requirements of part 135, subject to certain conditions and limitations.

Grant, 11/1/2004, Exemption No. 8435.

Docket No.: FAA-2004-19047.

Petitioner: Mr. James Vernon Ricks, Jr.

Section of 14 CFR Affected: 14 CFR 135.251, 135.255, 135.353, and appendices I and J to part 121.

Description of Relief Sought/Disposition: To permit Mr. James Vernon Ricks, Jr., to conduct local sightseeing flights at the Greenwood-Leflore Airport, Greenwood, Mississippi, on or about the dates mentioned in the petition, for compensation or hire, without complying with certain anti-drug and alcohol misuse prevention requirements of part 135, subject to certain conditions and limitations.

Grant, 11/4/2004, Exemption No. 8436.

Docket No.: FAA-2004-19417.

Petitioner: Lufthansa Cargo AG.

Section of 14 CFR Affected: 14 CFR 61.77(a).

Description of Relief Sought/Disposition: To permit pilots employed by Lufthansa Cargo AG to be eligible for the issuance of special purpose pilot authorizations under part 61, subject to certain conditions and limitations.

Grant, 11/4/2004, Exemption No. 8437.

Docket No.: FAA-2000-8182.

Petitioner: Washoe County Sheriff's Office.

Section of 14 CFR Affected: 14 CFR 61.113(e).

Description of Relief Sought/Disposition: To permit members of the Washoe County Sheriff's Air Squadron who hold private pilot certificates an amendment to Exemption No. 7473A, which would permit them to transport needed supplies and search specialists or teams, such as dogs, mantrackers, and technical rescue teams, to the scene of a rescue when conducting search and location missions.

Denial, 11/4/2004, Exemption No. 7473B.

Docket No.: FAA-2001-10205.

Petitioner: Massachusetts Institute of Technology, Lincoln Laboratory.

Section of 14 CFR Affected: 14 CFR 142.57(a)(1).

Description of Relief Sought/Disposition: To permit the Massachusetts Institute of Technology, Lincoln Laboratory, to use a Boeing 707 airplane that operates as a public aircraft to conduct training under 14 CFR part 61 for Lincoln Laboratory flight crewmembers.

Denial, 11/4/2004, Exemption No. 8438.

Docket No.: FAA-2003-14309.

Petitioner: Kenmore Air Harbor, Inc.

Section of 14 CFR Affected: 14 CFR 135.203(a)(1).

Description of Relief Sought/Disposition: To permit Kenmore Air Harbor, Inc., to conduct seaplane operations under visual flight rules, outside controlled airspace, over water, and at an altitude below 500 feet above ground level.

Grant, 11/15/2004, Exemption No. 2528M.

Docket No.: FAA-2002-13066.

Petitioner: Department of the Army.

Section of 14 CFR Affected: 14 CFR 91.209(a)(1) and (2).

Description of Relief Sought/Disposition: To permit the Department of the Army to conduct certain military training operations at night without lighted aircraft position lights.

Grant, 11/15/2004, Exemption No. 3946I.

Docket No.: FAA-2000-8337.

Petitioner: Alaska's Lake Clark Inn.

Section of 14 CFR Affected: 14 CFR 135.143(c)(2).

Description of Relief Sought/Disposition: To permit Alaska's Lake Clark Inn to operate certain aircraft under part 135 without a TSO-C112 (Mode S) transponder installed on those aircraft.

Grant, 11/15/2004, Exemption No. 7426B.

Docket No.: FAA-2002-11715.

Petitioner: Chevron U.S.A.

Section of 14 CFR Affected: 14 CFR 135.143(c)(2).

Description of Relief Sought/Disposition: To permit Chevron U.S.A. to operate certain aircraft under part 135 without a TSO-C112 (Mode S) transponder installed on those aircraft.

Grant, 11/15/2004, Exemption No. 8440.

Docket No.: FAA-2004-19611.

Petitioner: Seattle Jet Services, Inc.

Section of 14 CFR Affected: 14 CFR 135.143(c)(2).

Description of Relief Sought/Disposition: To permit Seattle Jet Services, Inc., to operate certain aircraft under part 135 without a TSO-C112 (Mode S) transponder installed on those aircraft.

Grant, 11/15/2004, Exemption No. 8441.

Docket No.: FAA-2004-19553.

Petitioner: Flightworks Executive Charter.

Section of 14 CFR Affected: 14 CFR 135.143(c)(2).

Description of Relief Sought/Disposition:To permit Flightworks Executive Charter to operate certain aircraft under part 135 without a TSO-C112 (Mode S) transponder installed on those aircraft.

Grant, 11/15/2004, Exemption No. 8443.

Docket No.: FAA-2004-19514.

Petitioner: Midwest Airlines, Inc.

Section of 14 CFR Affected:14 CFR 121.623(a) and (d), 121.643, and 121.645(e).

Description of Relief Sought/Disposition:To permit Midwest Airlines, Inc., to conduct its supplemental operations within the 48 contiguous United States and the District of Columbia using the flight regulations for alternate airports as required by § 121.619 and fuel reserve requirements as required by § 121.639 that are applicable to domestic operations, subject to certain conditions and limitations.

Grant, 11/16/2004, Exemption No. 8444.

Docket No.: FAA-2002-13297.

Petitioner: United Airlines, Inc.

Section of 14 CFR Affected:14 CFR 121.665 and 121.697(a) and (b).

Description of Relief Sought/Disposition:To permit United Airlines, Inc., to continue to use computerized load manifests that bear the printed name and position of the person responsible for loading the aircraft, instead of that person's signature.

Grant, 11/16/2004, Exemption No. 2466O.

Docket No.: FAA-2000-8180.

Petitioner: Regional Airline Association.

Section of 14 CFR Affected:14 CFR 61.3(a) and (c).

Description of Relief Sought/Disposition:To permit Regional Airline Association member carriers and similarly situated 14 CFR part 135 air carriers the establishment of special procedures that enable an operator to issue to its flight crewmembers, on a temporary basis, confirmation of any required crewmember certificate based on information contained in the operator's approved record system.

Grant, 11/16/2004, Exemption No. 5560E.

Docket No.: FAA-2001-10501.

Petitioner: Mr. P. Barton Richards.

Section of 14 CFR Affected:14 CFR 61.129(c)(4)(ii).

Description of Relief Sought/Disposition:To permit Mr. P. Barton Richards to obtain a commercial pilot certificate with a rotorcraft category and helicopter class rating by substituting the requirement for 5 hours of solo night flight time with 5 hours of night flight time as pilot in command with another pilot aboard the helicopter.

Denial, 11/17/2004, Exemption No. 8445.

Docket No.: FAA-2004-19545.

Petitioner: Omni Aviation Services.

Section of 14 CFR Affected:14 CFR 135.143(c)(2).

Description of Relief Sought/Disposition:To permit Omni Aviation Services to operate certain aircraft under part 135 without a TSO-C112 (Mode S) transponder installed on those aircraft listed in the petition.

Grant, 11/19/2004, Exemption No. 8446.

Docket No.: FAA-2004-19650.

Petitioner: Smoky Mountain Helicopters, Inc., d.b.a. Inter Island Helicopters of Kauai.

Section of 14 CFR Affected:14 CFR 135.143(c)(2).

Description of Relief Sought/Disposition:To permit Smoky Mountain Helicopters, Inc., d.b.a. Inter Island Helicopters of Kauai, to operate certain aircraft under part 135 without a TSO-C112 (Mode S) transponder installed on those aircraft.

Grant, 11/22/2004, Exemption No. 8447.

Docket No.: FAA-2004-19662.

Petitioner: Mulchatna Air Service, LLC.

Section of 14 CFR Affected:14 CFR 135.143(c)(2).

Description of Relief Sought/Disposition:To permit Mulchatna Air Service, LLC to operate certain aircraft under part 135 without a TSO-C112 (Mode S) transponder installed on those aircraft.

Grant, 11/22/2004, Exemption No. 8448.

Docket No.: FAA-2004-19481.

Petitioner: Embry-Riddle Aeronautical University.

Section of 14 CFR Affected:14 CFR 61.71(a).

Description of Relief Sought/Disposition:To permit Embry-Riddle Aeronautical University to issue a commercial pilot certificate to John Robert Bounds, Joseph Sylvester Vidas, Peter Scott Vallely, and Luke Klassen Snyder upon successfully completing their practical test, subject to certain conditions and limitations.

Grant, 11/18/2004, Exemption No. 8449.

Docket No.: FAA-2004-19663.

Petitioner: Global Lift Helicopters, LLC.

Section of 14 CFR Affected:14 CFR 135.143(c)(2).

Description of Relief Sought/Disposition:To permit Global Life Helicopters, LLC, to operate certain aircraft under part 135 without a TSO-C112 (Mode S) transponder installed on those aircraft.

Grant, 11/22/2004, Exemption No. 8450.

Docket No.: FAA-2001-8881.

Petitioner: Mr. Allen N. Banen.

Section of 14 CFR Affected:14 CFR 91.109(a) and (b)(3).

Description of Relief Sought/Disposition:To permit Mr. Allen N. Banen to conduct certain flight instruction and simulated instrument flight to meet recent instrument experience requirements in Beechcraft Baron and Bonanza airplanes equipped with a functioning throwover control wheel in place of functioning dual controls.

Grant, 11/19/2004, Exemption No. 7467B.

Docket No.: FAA-2001-9141.

Petitioner: Business Aviation Courier.

Section of 14 CFR Affected:14 CFR 135.143(c)(2).

Description of Relief Sought/Disposition:To permit Business Aviation Courier an amendment to Exemption No. 7488, which will allow the Fairchild Metro III aircraft, N366AE-AC681B, to operate under part 135 without a TSO-C112 (Mode S) transponder installed on the aircraft.

Grant, 11/26/2004, Exemption No. 7488B.

Docket No.: FAA-2003-14227.

Petitioner: Kenmore Air Harbor, Inc.

Section of 14 CFR Affected:14 CFR 135.154(b)(2).

Description of Relief Sought/Disposition: To permit Kenmore Air Harbor, Inc., to operate nine single-pilot, single-engine, turbine-powered seaplanes (two De Havilland DHC-2 MK III Turbo Beavers and seven De Havilland DHC-3 Turbo Otters) within and outside the United States after March 29, 2005, without being equipped with an approved terrain awareness and warning system that meets the requirements for class B equipment in Technical Standard Order C151.

Denial, 11/30/2004, Exemption No. 8451.

Docket No.: FAA-2001-8744.

Petitioner: Evergreen Aviation Museum.

Section of 14 CFR Affected: 14 CFR 91.315, 91.319(a), 119.5(g), and 119.21(a).

Description of Relief Sought/Disposition: To permit Evergreen Aviation Museum to operate its Boeing B-17 aircraft, Serial No. 44-83785, and its Grumman TBM-3E Avenger Torpedo Bomber, Serial No. 91726, which hold a limited category airworthiness certificate for purpose of carrying passengers on local flights in return for donations.

Grant, 11/30/2004, Exemption No. 6632F.

Docket No.: FAA-2004-19105.

Petitioner: C & S Aviation, Ltd.

Section of 14 CFR Affected: 14 CFR 135.152(a).

Description of Relief Sought/Disposition: To permit C & S Aviation Ltd., to operate one Gulfstream G1159 airplane, U.S. Registration No. N400WY, Serial No. 467, without the digital flight data recorder required by the regulation.

Denial, 11/30/2004, Exemption No. 8452.

Docket No.: FAA-2000-8148.

Petitioner: Epps Aviation.

Section of 14 CFR Affected: 14 CFR 135.143(c)(2).

Description of Relief Sought/Disposition: To permit Epps Aviation to operate certain aircraft under part 135 without a TSO-C112 (Mode S) transponder installed on those aircraft.

Grant, 11/30/2004, Exemption No. 6037E.

Docket No.: FAA-2002-11285.

Petitioner: Commemorative Air Force.

Section of 14 CFR Affected: 14 CFR 91.319, 119.5(g), and 119.25(b).

Description of Relief Sought/Disposition: To permit Commemorative Air Force to operate certain military aircraft for the purpose of carrying passengers on local educational flights.

Grant, 12/1/2004, Exemption No. 6802D.

Docket No.: FAA-2004-19488.

Petitioner: Air Maui.

Section of 14 CFR Affected: 14 CFR 135.143(c)(2).

Description of Relief Sought/Disposition: To permit Air Maui to operate certain aircraft under part 135 without a TSO-C112 (Mode S) transponder installed on those aircraft.

Grant, 11/15/204, Exemption No. 8442.

[FR Doc. 04-27685 Filed 12-16-04; 8:45 am]

BILLING CODE 4910-13-P